DEPARTMENT OF JUSTICE

Drug Enforcement Administration

[Docket No. DEA-575]

Importer of Controlled Substances Application: Stepan Company

ACTION: Notice of application.

DATES: Registered bulk manufacturers of the affected basic classes, and applicants therefore, may file written comments on or objections to the issuance of the proposed registration on or before March 4, 2020. Such persons may also file a written request for a hearing on the application on or before March 4, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on December 12, 2019, Stepan Company, 100 West Hunter Avenue, Maywood, New Jersey 07607-1021 applied to be registered as an importer of the following basic class of controlled substance:

Controlled substance | Drug code | Schedule
Coca Leaves | 9040 | II

The company plans to import the listed controlled substance in bulk for the manufacture of controlled substances for distribution to its customers.

Dated: January 16, 2020.
William T. McDermott,
Assistant Administrator.

[FR Doc. 2020-01958 Filed 1-31-20; 8:45 am]

BILLING CODE 4410-09-P